DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

This supplemental plat was prepared to show new lots 5, 6, 7, 8, 9, and 10 in section 7, in T. 56 N., R. 2 E., Boise Meridian, Idaho, was accepted January 30, 2006.

The plat representing the corrective dependent resurvey of portions of the south and west boundaries, in T. 1 S., R. 1 W., Boise Meridian, Idaho, was accepted February 1, 2006.

The plat representing the dependent resurvey of portions of the subdivisional lines and of the subdivision of sections 5, 7, 8, and 17, and the further subdivision of sections 7, 8, 17, and 21, in T. 2 N., R. 5 W., Boise Meridian, Idaho, was accepted February 22, 2006.

This supplemental plat was prepared to add the new area of lot 10, section 30, which was inadvertently omitted, in T. 4 N., R. 46 E., Boise Meridian, Idaho, was accepted February 23, 2006.

This supplemental plat was prepared to correct the bearing and distance from the true point for Angle Point No. 6, Tract 37, to the 2003-2004 witness corner for Angle Point No. 6, Tract 37, in T. 10 S., R. 23 E., Boise Meridian, Idaho, was accepted February 24, 2006.

This supplemental plat was prepared to create two new lots in section 13, in T. 4 N., R. 17 E., Boise Meridian, Idaho, was accepted March 8, 2006.

This supplemental plat was prepared to show amended lottings created by the segregation of Mineral Survey Nos. 780A and 3498, in sections 9 and 16, in T. 2 N., R. 24 E., Boise Meridian, Idaho, was accepted March 8, 2006.

The plat representing the dependent resurvey of a portion of the subdivisional lines, and the subdivision of sections 14 and 23, in T. 8 N., R. 3 E., Boise Meridian, Idaho, was accepted March 15, 2006.

These surveys were executed at the request of the Bureau of Indian Affairs to meet certain administrative and management purposes. The lands surveyed are:

The plat representing the dependent resurvey of portions of the subdivisional lines and the subdivision of section 21, and the further subdivision of section 21, and certain metes-and-bounds surveys in section 21, in T. 7 S., R. 35 E., Boise Meridian, Idaho, was accepted February 3, 2006.

The plat representing the dependent resurvey of portions of the north boundary, the subdivisional lines, and the original 1890 meanders of the Clearwater River in sections 6 and 7, and the subdivision of sections 6 and 7, the survey of the 2003-2005 left bank of the Clearwater River in sections 6 and 7, and the 2003-2005 survey of certain partition lines in sections 6 and 7, in T. 36 N., R. 3 W., Boise Meridian, Idaho, was accepted March 20, 2006.

The plat representing the dependent resurvey of portions of the east boundary and subdivisional lines, and the subdivision of section 12, in T. 36 N., R. 4 W., Boise Meridian, Idaho, was accepted March 20, 2006.

The plat representing the dependent resurvey of a portion of the Idaho—Nevada State Boundary (south boundary), the west boundary, portions of the north boundary and subdivisional lines, the dependent resurvey of the subdivision and the further subdivision of sections 5, 6, 7, 8, 17, 18, 19, 20, 28, 29 and 30, and the subdivision of section 21, in T. 16 S., R. 3 E., Boise Meridian, Idaho, was accepted March 23, 2006.

The plat representing the dependent resurvey of a portion of the west boundary and subdivisional lines and the dependent resurvey of the subdivision and the further subdivision of sections 31 and 32, in T. 15 S., R. 3 E., Boise Meridian, Idaho, was accepted March 24, 2006.

These surveys were executed at the request of the U.S.D.A. Forest Service to meet certain administrative and management purposes. The lands surveyed are:

The plat representing the dependent resurvey of portions of the subdivisional lines and the original 1906 meanders of the Salmon River in section 22, and the subdivision of section 22, in T. 24 N., R. 2 E., Boise Meridian, Idaho, was accepted January 26, 2006.

The plat representing the dependent resurvey of a portion of the subdivisional lines, and the survey of the Brundage Mountain Exchange Boundary, in sections 1 and 12, in T. 19 N., R. 2 E., Boise Meridian, Idaho, was accepted March 15, 2006.

Dated: April 5, 2006.
Stanley G. French,
Chief Cadastral Surveyor for Idaho.

[FR Doc. E6-5247 Filed 4-10-06; 8:45 am]

BILLING CODE 4310-GG-P